DEPARTMENT OF ENERGY

Federal Energy Regulatory Commission

[Docket No. RP00-552-000]

Florida Gas Transmission Company; Notice of Proposed Changes in FERC Gas Tariff

September 25, 2000.

Take notice that on September 19, 2000, Florida Gas Transmission Company (FGT) tendered for filing to become part of its FERC Gas Tariff, Third Revised Volume No. 1, with an effective date October 19, 2000, the following tariff sheets:

Fourth Revised Sheet No. 129A

Fourth Revised Sheet No. 163C

Second Revised Sheet No. 163D

Third Revised Sheet No. 163H

FGT states that in the instant filing, FGT is proposing changes to certain tariff provisions as contained in FGT's General Terms and Conditions (GT&C) to increase the minimum tolerance levels used in determining non-compliance with FGT's operational tools from 100 MMBtu to 500 MMBtu as described below. Specifically, FGT is proposing to increase the Alert Day Tolerance Percentage as contained in section 13.D of the GT&C, Alert Days, and the tolerance levels for Operational Purchases and Sales, Deferred Exchanges and Pack and Draft as contained in Section 17.C of the GT&C, Operational Controls. Under FGT's current tariff provisions, non-compliance with these tariff provisions is defined as overages/underages in excess of 2% or 100 MMBtu, whichever is greater, except for Pack and Draft, where non-compliance is defined as overages/underages in excess of 5% or 100 MMBtu, whichever is greater. These fixed volume tolerance levels impact only small volume transactions where the fixed volume is greater than the percentage tolerance levels.

Any person desiring to be heard or to protest said filing should file a motion to intervene or a protest with the Federal Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24995 Filed 9-28-00; 8:45 am]

BILLING CODE 6717-01-M